FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 10, 2014.

A. Federal Reserve Bank of Dallas (E. Ann Worthy, Vice President) 2200 North Pearl Street, Dallas, Texas 75201-2272:

1. Mary Ruth Ellis, individually and as Executrix of the Estate of Norman Ellis, North Richland Hills, Texas; David W. Ellis, and Duncan J. Ellis, both of Richland Hills, Texas; and Deana Hoffman, North Richland Hills, Texas; to acquire voting shares of Wills Point Financial Corporation, and thereby indirectly acquire additional voting shares of Citizens National Bank, both in Wills Point, Texas.

Board of Governors of the Federal Reserve System, February 18, 2014.
Michael J. Lewandowski,
Associate Secretary of the Board.

[FR Doc. 2014-03687 Filed 2-20-14; 8:45 am]

BILLING CODE 6210-01-P